COMMITTEE FOR PURCHASE FROM PEOPLE WHO ARE BLIND OR SEVERELY DISABLED

Procurement List; Proposed Additions

AGENCY: Committee for Purchase From People Who Are Blind or Severely Disabled.

ACTION: Proposed additions to procurement list.

SUMMARY: The Committee is proposing to add to the Procurement List services to be furnished by nonprofit agencies employing persons who are blind or have other severe disabilities.

Comments Must be Received on or Before: February 4, 2002.

ADDRESSES: Committee for Purchase From People Who Are Blind or Severely Disabled, Jefferson Plaza 2, Suite 10800, 1421 Jefferson Davis Highway, Arlington, Virginia 22202-3259.

FOR FURTHER INFORMATION CONTACT: Sheryl D. Kennerly (703) 603-7740.

SUPPLEMENTARY INFORMATION: This notice is published pursuant to 41 U.S.C. 47(a)(2) and 41 CFR 51-2.3. Its purpose is to provide interested persons an opportunity to submit comments on the possible impact of the proposed actions.

If the Committee approves the proposed additions, the entities of the Federal Government identified in this notice for each service will be required to procure the services listed below from nonprofit agencies employing persons who are blind or have other severe disabilities.

I certify that the following action will not have a significant impact on a substantial number of small entities. The major factors considered for this certification were:

1. The action will not result in any additional reporting, recordkeeping or other compliance requirements for small entities other than the small organizations that will furnish the services to the Government.

2. The action will result in authorizing small entities to furnish the services to the Government.

3. There are no known regulatory alternatives which would accomplish the objectives of the Javits-Wagner-O'Day Act (41 U.S.C. 46-48c) in connection with the services proposed for addition to the Procurement List. Comments on this certification are invited. Commenters should identify the statement(s) underlying the certification on which they are providing additional information.

The following services are proposed for addition to Procurement List for production by the nonprofit agencies listed:

Services

Administrative/General Support Services

Minerals Management Service, DOI, 381 Elden Street, Herndon, Virginia

NPA: ServiceSource, Inc., Alexandria, Virginia

Government Agency: Department of the Interior

Base Supply Center, Fort Meade, Maryland

NPA: Blind Industries & Services of Maryland, Baltimore, Maryland

Government Agency: Fort Meade, Maryland

Customization & Distribution of Air Force Sales Promotional Items

HQ Air Force Recruiting Service, 550 D Street West, Suite 1, Randolph AFB, Texas

NPA: Industries for the Blind, Inc., Milwaukee, Wisconsin

Government Agency: HQ Air Force Recruiting Service

Food Service Attendant

Air National Guard-Iowa, 3100 McKinley Avenue, Des Moines, Iowa

NPA: Progress Industries, Newton, Iowa

Government Agency: Air National Guard—Iowa

Hospital Housekeeping Services

Great Lakes Naval Hospital, Great Lakes, Illinois

NPA: Relief Enterprise, Inc., Austin, Texas

Government Agency: Great Lakes Naval Hospital

Janitorial/Custodial

Veterans Affairs Medical Center, OI Services Center, Edward Hines Jr., 1st Avenue, Bldg 20, Hines, Illinois

NPA: Jewish Voc. Service & Employment Center, Chicago, Illinois

Government Agency: VA Medical Center—Brecksville, Ohio

Laundry Service

VA Medical Center, At the following locations:

Denver, Colorado

Pueblo, Colorado

Cheyenne, Wyoming

NPA: Goodwill Industrial Services Corporation, Colorado Springs, Colorado

Government Agency: VA Medical Center, Denver, Colorado

G. John Heyer,
General Counsel.

[FR Doc. 02-233 Filed 1-3-02; 8:45 am]

BILLING CODE 6353-01-P